DEPARTMENT OF LABOR

Employment and Training Administration

[TA-W-61,226]

Delphi Corporation, Automotive Holding Group, Instrument Cluster Plant, Currently Known as General Motors Corporation, Including On-Site Leased Workers From Securitas, EDS, Bartech, Mays Chemicals, Interim Physicians, LLC and HSS Material Management, Flint, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 15, 2007, applicable to workers of Delphi Corporation, Automotive Holding Group, Instrument Cluster Plant, including on-site leased workers from Securitas, EDS, Bartech and Mays Chemicals, Flint, Michigan. The Department's Notice of determination was published in the Federal Register on May 30, 2007 (72 FR 30033). The certification was amended on February 17, 2009 to reflect that the workers' wages are reported under the Unemployment Insurance (UI) tax account for General Motors Corporation. The notice was published in the Federal Register on March 3, 2009 (74 FR 9286-9287).

At the request of the State agency, the Department reviewed the certification for workers of the subject firm. Workers produced instrumentation displays.

The company reports that workers leased from Interim Physicians, LLC and HSS Material Management were employed on-site at the Flint, Michigan location of Delphi Corporation. The Department has determined that these workers were sufficiently under the control of the subject firm to be considered as leased workers.

Based on these findings, the Department is amending this certification to include workers leased from Interim Physicians, LLC and HSS Material Management working on-site at Delphi Corporation, Automotive Holding Group, Instrument Cluster Plant, currently known as General Motors Corporation, Flint, Michigan.

The amended notice applicable to TA-W-61,226 is hereby issued as follows:

All workers of Delphi Corporation, Automotive Holding Group, Instrument Cluster Plant, currently known as General Motors Corporation, including on-site leased workers from Securitas, EDS, Bartech, Mays Chemicals, Interim Physicians, LLC and HSS Material Management, Flint, Michigan, who became totally or partially separated from employment on or after March 30, 2006 through May 15, 2009, are eligible to apply for adjustment assistance under Section 223 of the Trade Act of 1974, and are also eligible to apply for alternative trade adjustment assistance under Section 246 of the Trade Act of 1974.

Signed at Washington, DC, this 1st day of July 2010.
Del-Min Amy Chen,
Certifying Officer, Division of Trade Adjustment Assistance.

[FR Doc. 2010-17384 Filed 7-15-10; 8:45 am]

BILLING CODE 4510-FN-P